DEPARTMENT OF HEALTH AND HUMAN SERVICES

Indian Health Service

Mental Health and Community Safety Initiative for American Indian/Alaska Native Children, Youth and Families

AGENCY: Indian Health Service, HHS.

ACTION: Extension of Deadline for Receipt of Competitive Grant Applications for the Mental Health and Community Safety Initiative for American Indian/Alaska Native (AI/AN) Children, Youth, and Families.

The Notice of funding availability for competitive grants for the mental health and community safety initiative for American Indian/Alaska Native (AI/AN) children, youth, and families was published at 65 FR 26841, on Tuesday, May 9, 2000.

The Indian Health Service (IHS) announces the extension of the application receipt deadlines to June 15, 2000 for the following grant programs included in the above Notice:

1. The AI/AN Mental Health Grants Program funded by the IHS and

2. The Mental Health and Community Safety Initiative for American Indian/Alaska Native (AI/AN) Children, Youth, and Families funded by the Office of Community Oriented Policing Services (COPS).

This extension to June 15, 2000, provides applicants for both of these programs approximately an additional two weeks to prepare and submit competitive applications.

All other information contained in the Federal Register announcement and in the consolidated grant application package distributed in early May remains unchanged.

Dated: May 19, 2000.
Michael H. Trujillo,
Assistant Surgeon General, Director.

[FR Doc. 00-13212 Filed 5-25-00; 8:45 am]

BILLING CODE 4160-16-M